DEPARTMENT OF TRANSPORTATION

Surface Transportation Board

[STB Finance Docket No. 35207]

Morristown & Erie Railway Inc., d/b/a Stourbridge Railway—Operation Exemption—Stourbridge Railroad Company

Morristown & Erie Railway Inc., d/b/a Stourbridge Railway (ME d/b/a STRY), a Class III rail carrier, has filed a verified notice of exemption under 49 CFR 1150.41 to operate, pursuant to an agreement with Stourbridge Railroad Company (SBRR), SBRR's approximately 24.80 miles of rail line extending between milepost 0.0 at Lackawaxen, in Pike County, PA, and milepost 24.8 at Honesdale, in Wayne County, PA. The agreement also provides that ME d/b/a STRY will have exclusive passenger operating rights over the line. ME d/b/a STRY will interchange freight with the Central New York Railroad Company at milepost 0.0 at Lackawaxen, PA.

The earliest this transaction can be consummated is January 16, 2009, the effective date of the exemption (30 days after the exemption was filed).

ME d/b/a STRY certifies that its projected annual revenues as a result of the transaction will not result in ME d/b/a STRY's becoming a Class II or Class I rail carrier and that its projected annual revenues will not exceed $5 million.

Pursuant to the Consolidated Appropriations Act, 2008, Public Law No. 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Stay petitions must be filed by January 9, 2009 (at least 7 days before the exemption becomes effective).

An original and 10 copies of all pleadings, referring to STB Finance Docket No. 35207, must be filed with the Surface Transportation Board, 395 E Street, SW., Washington, DC 20423-0001. In addition, a copy of each pleading must be served on John K. Fiorilla, Esq., Capehart & Scatchard, P.A., 8000 Midlantic Drive, Suite 300S, Mount Laurel, NJ 08054.

Board decisions and notices are available on our Web site at http://www.stb.dot.gov.

Decided: December 22, 2008.
By the Board, David M. Konschnik, Director, Office of Proceedings.
Jeffrey Herzig,
Clearance Clerk.

[FR Doc. E8-31017 Filed 12-30-08; 8:45 am]

BILLING CODE 4915-01-P